INTERNATIONAL TRADE COMMISSION

[Investigation Nos. 701-TA-514 and 731-TA-1250 (Preliminary)]

53-Foot Domestic Dry Containers From China

Determinations

On the basis of the record ¹ developed in the subject investigations, the United States International Trade Commission (Commission) determines, pursuant to sections 703(a) and 733(a) of the Tariff Act of 1930 (19 U.S.C. 1671b(a) and 1673b(a)) (the Act), that there is a reasonable indication that the establishment of an industry in the United States is materially retarded by reason of imports from China of 53-foot domestic dry containers, provided for in heading 8609.00.00 of the Harmonized Tariff Schedule of the United States, that are alleged to be sold in the United States at less than fair value (“LTFV”), and that are allegedly subsidized by the Government of China.²

¹ The record is defined in sec. 207.2(f) of the Commission's Rules of Practice and Procedure (19 CFR 207.2(f)).

² Commissioners Broadbent and Kieff dissenting.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On April 23, 2014, petitions were filed with the Commission and Commerce by Stoughton Trailers, LLC, Stoughton, Wisconsin, alleging that the establishment of a domestic industry is materially retarded and that an industry in the United States is materially injured or threatened with material injury by reason of LTFV and subsidized imports of 53-foot domestic dry containers from China. Accordingly, effective April 23, 2014, the Commission instituted countervailing duty Inv. No. 701-TA-514 and antidumping duty Inv. No. 731-TA-1250 (Preliminary).

Notice of the institution of the Commission's investigations and of a public conference to be held in connection therewith was given by posting copies of the notice in the Office of the Secretary, U.S. International Trade Commission, Washington, DC, and by publishing the notice in the Federal Register of April 29, 2014 (79 FR 24005). The conference was held in Washington, DC, on May 14, 2014, and all persons who requested the opportunity were permitted to appear in person or by counsel.

The Commission transmitted its determinations in these investigations to the Secretary of Commerce on June 9, 2014. The views of the Commission are contained in USITC Publication 4474 (June 2014), entitled 53-Foot Domestic Dry Containers from China: Investigation Nos. 701-TA-514 and 731-TA-1250 (Preliminary).

By order of the Commission.
Issued: June 9, 2014.
Lisa R. Barton,
Secretary to the Commission.

[FR Doc. 2014-13815 Filed 6-12-14; 8:45 am]

BILLING CODE 7020-02-P